DEPARTMENT OF DEFENSE

Department of the Air Force

Office of the Secretary of the Air Force Acceptance of Group Application Under Public Law 95-202 and Department of Defense Directive (DODD) 1000.20: U.S. and Foreign Employees of Air America, Inc.

Under the provisions of Section 401, Public Law 95-202 and DoD Directive 1000.20, the Department of Defense Civilian/Military Service Review Board has accepted an application on behalf of a group known as: “U.S. and Foreign Employees of Air America, Inc. who operated fixed wing or helicopter aircraft in support of U.S. Army Special Forces in Laos as part of Operation Hot Foot and Operation White Star from 1959-1963; and the U.S. and Foreign Employees of Air America, Inc., who operated fixed wing and helicopter aircraft in direct support of the U.S. Air Force operating in Laos in the Steve Canyon Program (Ravens), SAR and direct support for the Site 85 operation, High Altitude Relay Project (HARP), Photo Reconnaissance collaboration with 7th/13th Air Force and CIA, and with the Search and Rescue (SAR) Operations for U.S. Military flight crews from 1964 through 1974, who were necessary to support those missions and held supervisory positions.” Persons with information or documentation pertinent to the determination of whether the service of this group should be considered active military service to the Armed Forces of the United States are encouraged to submit such information or documentation within 60 days to the DoD Civilian/Military Service Review Board, 1500 West Perimeter Road, Suite 3700 Joint Base Andrews NAF, MD 20762-7002.

FOR FURTHER INFORMATION CONTACT: Mr. Bruce T. Brown, Executive Secretary, DoD C/MSRB, at 240-612-5364, bruce.brown@afncr.af.mil. Copies of documents or other materials submitted cannot be returned.

Bao-Anh Trinh,
Air Force Federal Register Liaison Officer.

[FR Doc. 2013-02725 Filed 2-6-13; 8:45 am]

BILLING CODE 5001-10-P